DEPARTMENT OF THE INTERIOR

Bureau of Ocean Energy Management

[Docket No. BOEM-2020-0066]

Notice of Public Meetings and of Availability of a Draft Environmental Impact Statement for Deepwater South Fork LLC's Proposed Wind Energy Facility Offshore Rhode Island

AGENCY: Bureau of Ocean Energy Management, Interior.

ACTION: Notice of availability of a Draft Environmental Impact Statement and public meetings.

SUMMARY: In accordance with regulations issued under the National Environmental Policy Act, the Bureau of Ocean Energy Management (BOEM) is announcing the availability of the South Fork Wind Farm (SFWF) and South Fork Export Cable (SFEC) Project Draft Environmental Impact Statement (DEIS) prepared for a construction and operations plan (COP) submitted by Deepwater South Fork LLC (South Fork). The DEIS analyzes reasonably foreseeable effects from the construction, operation and maintenance, and eventual decommissioning of up to 15 wind turbine generators, an offshore substation, inter-array cables in lease area OCS-A 0517, and the installation of an export cable from the lease area to Suffolk County, Long Island (collectively, the “Project”). This notice of availability (NOA) announces the start of the public review and comment period, as well as the times and dates for virtual public meetings, on the DEIS. After BOEM holds the public meetings and addresses comments provided, BOEM will publish a final environmental impact statement.

DATES: Comments should be submitted no later than February 22, 2021. BOEM's virtual public meetings will be held at the following dates and times (Eastern):

Tuesday, February 9, 2021; 1:00-3:00 p.m.;

Thursday, February 11, 2021; 5:00-7:00 p.m.; and

Tuesday, February 16, 2021; 5:00-7:00 p.m.

Registration for the virtual public meetings may be completed here: https://www.boem.gov/renewable-energy/south-fork-wind-farm-deis-virtual-meetings or by calling (703) 787-1662.

ADDRESSES: The DEIS and detailed information about the proposed wind energy facility, including the COP, can be found on BOEM's website at: https://www.boem.gov/renewable-energy/state-activities/south-fork. Comments can be submitted in any of the following ways:

• In written form by mail, enclosed in an envelope labeled “South Fork COP DEIS” and addressed to Program Manager, Office of Renewable Energy, Bureau of Ocean Energy Management, 45600 Woodland Road, Sterling, Virginia 20166. Comments must be received or postmarked no later than February 22, 2021; or

• Through the regulations.gov web portal: Navigate to htttp://www.regulations.gov and search for Docket No. BOEM-2020-0066. Click on the “Comment Now!” button to the right of the document link. Enter your information and comment, then click “Submit.”

FOR FURTHER INFORMATION CONTACT: For information on the DEIS or BOEM's policies associated with this notice, please contact: Michelle Morin, Chief, Environment Branch for Renewable Energy, BOEM Office of Renewable Energy Programs, 45600 Woodland Road, Sterling, Virginia 20166, (703) 787-1722 or michelle.morin@boem.gov.

SUPPLEMENTARY INFORMATION: Proposed Action: South Fork seeks approval to construct, operate, maintain, and eventually decommission the Project—a wind energy facility on the Outer Continental Shelf (OCS) offshore Rhode Island and an associated export cable. The Project would be developed within the range of design parameters outlined in the South Fork COP, subject to applicable mitigation measures. The SFWF includes up to 15 wind turbine generators with a nameplate capacity of 6 to 12 megawatts per turbine, submarine cables between the wind turbine generators (inter-array cables), and an offshore substation, all located entirely on the OCS in Federal waters in Lease Area OCS-A 0517, approximately 19 miles southeast of Block Island, Rhode Island, and 35 miles east of Montauk Point, New York. The SFEC is an alternating current electric cable that will connect the wind farm to the existing mainland electric grid in East Hampton, New York. The Project also includes an operations and maintenance facility located onshore at either Montauk in East Hampton, New York, or Quonset Point in North Kingstown, Rhode Island, and a new facility that will interconnect the SFEC with the Long Island Power Authority electric transmission and distribution system in the town of East Hampton, New York.

The DEIS analyzes reasonably foreseeable effects from the Project. The analysis includes a review of resource-specific baseline conditions and future offshore wind activities, and, using the methodology and assumptions outlined in the document, assesses cumulative impacts that could result from the incremental impact of the proposed action and action alternatives as defined in the DEIS when combined with past, present, or reasonably foreseeable activities, including other potential future offshore wind activities.

Alternatives: BOEM considered 22 alternatives when preparing the DEIS and carried forward four for further analysis in the DEIS. These four alternatives include three action alternatives and the No Action alternative. Eighteen alternatives were not further analyzed because they did not meet the purpose and need for the proposed action or did not meet screening criteria. The screening criteria included consistency with law and regulations; operational, technical, and economic feasibility; environmental impact; and geographical considerations.

Availability of the DEIS: The DEIS, South Fork COP, and associated information are available on BOEM's website at: https://www.boem.gov/renewable-energy/state-activities/south-fork. BOEM distributed digital copies of the DEIS to all parties listed in Appendix B, which includes the location of all libraries receiving a copy. If you require a paper copy, BOEM will provide one upon request, if copies are available. You may request a DVD or paper copy of the DEIS by calling (703) 787-1662.

Cooperating Agencies: Ten agencies or governmental entities participated as cooperating agencies in preparing the DEIS: Bureau of Safety and Environmental Enforcement; U.S. Environmental Protection Agency; National Oceanic and Atmospheric Administration; U.S. Army Corps of Engineers; U.S. Coast Guard; Massachusetts Office of Coastal Zone Management; Rhode Island Department of Environmental Management; Rhode Island Coastal Resource Management Council; Town of East Hampton, and the Trustees of the Freeholders and Commonality of the Town of East Hampton.

BOEM does not consider anonymous comments. Please include your name and address as part of your submittal. BOEM makes all comments, including the names and addresses of respondents, available for public review during regular business hours. Individual respondents may request that BOEM withhold their names or addresses from the public record; however, BOEM cannot guarantee that it will be able to do so. If you wish your name or address to be withheld, you must state your preference prominently at the beginning of your comment. All submissions from organizations or businesses and from individuals identifying themselves as representatives or officials of organizations or businesses will be made available for public inspection in their entirety.

Authority: This NOA was prepared under Council on Environmental Quality NEPA regulations, 40 CFR 1500-1508 (as in place before July 16, 2020) and published in accordance with 40 CFR 1506.6 and 43 CFR 46.435.

William Yancey Brown,
Chief Environmental Officer, Bureau of Ocean Energy Management.

[FR Doc. 2021-00100 Filed 1-7-21; 8:45 am]

BILLING CODE 4310-MR-P